SMALL BUSINESS ADMINISTRATION

[Disaster Declaration #12100 and #12101]

Massachusetts Disaster Number MA-00025

AGENCY: U.S. Small Business Administration.

ACTION: Amendment 1.

SUMMARY: This is an amendment of the Presidential declaration of a major disaster for the Commonwealth of Massachusetts (FEMA-1895-DR), dated 03/29/2010.

Incident: Severe Storms and Flooding.

Incident Period: 03/12/2010 and continuing through 04/26/2010.

Effective Date: 04/26/2010.

Physical Loan Application Deadline Date: 05/28/2010.

EIDL Loan Application Deadline Date: 12/29/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the Commonwealth of Massachusetts, dated 03/29/2010 is hereby amended to establish the incident period for this disaster as beginning 03/12/2010 and continuing through 04/26/2010.

All other information in the original declaration remains unchanged.

(Catalog of Federal Domestic Assistance Numbers 59002 and 59008)

Joseph P. Loddo,
Acting Associate Administrator for Disaster Assistance.

[FR Doc. 2010-10777 Filed 5-6-10; 8:45 am]

BILLING CODE 8025-01-P